DEPARTMENT OF TRANSPORTATION

National Highway Traffic Safety Administration

49 CFR Part 571

[Vehicle Compatibility, Docket No. NHTSA-2003-14623; Rollover Mitigation, Docket No. NHTSA-2003-14622]

Vehicle Compatibility and Rollover Mitigation Integrated Project Team (IPT) Plans

AGENCY: National Highway Traffic Safety Administration (NHTSA), DOT.

ACTION: Notice of availability of documents.

SUMMARY: This notice announces the availability of NHTSA's first two of four high priority safety reports describing the agency's current and planned activities to address vehicle compatibility and rollover mitigation. The reports are available from the Docket Management System, U.S. Department of Transportation, at http://dms.dot.gov or on NHTSA's Web site at http://www.nhtsa.dot.gov/people/iptreports.html. While the documents are final, the agency is offering the public the opportunity to comment on the agency's planned activities. The comments will be considered for future agency efforts.

DATES: Comments must be received no later than August 4, 2003.

ADDRESSES: You may submit comments identified by Vehicle Compatibility DOT DMS Docket Number [NHTSA-2003-14623] and/or Rollover Mitigation DOT DMS Docket Number [NHTSA-2003-14622] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

Instructions: All submissions must include the agency name and docket number. Note that all comments received will be posted without change to http://dms.dot.gov, including any personal information provided.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Vehicle Compatibility—Roger A. Saul, National Highway Traffic Safety Administration, Room 5307, 400 Seventh Street, SW., Washington, DC 20590, Telephone: 202-366-1740, or Dee Y. Williams, National Highway Traffic Safety Administration, Room 5208, 400 Seventh Street, SW., Washington, DC 20590. Telephone: 202-366-0498.

Rollover Mitigation—Jim Simons, National Highway Traffic Safety Administration, Room 5208, 400 Seventh Street, SW., Washington, DC 20590, Telephone: 202-366-2555, or Dee Y. Williams, National Highway Traffic Safety Administration, Room 5208, 400 Seventh Street, SW., Washington, DC 20590. Telephone: 202-366-0498.

SUPPLEMENTARY INFORMATION:

Vehicle Compatibility

Since the 1970s, vehicle compatibility has been a concern to NHTSA. Recent sales and registrations of LTVs have steadily increased as a percentage of the passenger vehicle fleet, with LTVs representing 50 percent of new vehicle sales in 2001 and 37 percent of vehicle registrations. Consequently, this has led to an increased number of fatalities to car occupants who are struck by LTVs. This increase in passenger car fatalities has occurred even while the overall fatalities for the U.S. fleet has stabilized or decreased over the past several years. Therefore, NHTSA has made vehicle compatibility one of the agency's highest priorities. Initiatives the agency plans to pursue in improving vehicle compatibility include:

1.Vehicle Strategies

a. Partner Protection

b. Self Protection

c. Lighting/Glare

d. Reform CAFE

2. Roadway Strategies

a. Improve Structural Engagement with Roadside Hardware

b. Increase Awareness

3. Behavioral Strategies

a. Consumer Information Program

Vehicle Rollover

Vehicle rollover is also a great concern to NHTSA. Many factors contribute to the occurrence of rollover crashes. Rollover crashes closely correlate with unsafe and reckless driving behaviors, poor road design and vehicle type. Certain categories of vehicles, such as sport utility vehicles and small pickup trucks, are more prone to rollover than other classes of light motor vehicles. In recognition of the increasing rollover problem, NHTSA has also made finding solutions one of the agency's highest priorities. Initiatives the agency plans to pursue in reducing deaths and injuries attributable to rollover crashes include:

1.Vehicle Strategies

a. Handling and Stability

b. Reform CAFE

c. Ejection Mitigation

d. Roof Crush

2. Roadway and Roadside Improvements

3. Consumer Information Program

4. Rollover Causation Study

NHTSA believes the initiatives described in these two IPT reports will lead to both near-term and longer-term solutions to improve vehicle compatibility in the fleet and reduce crashes attributable to rollover.

NHTSA has also assembled IPTs to address two other highway safety programs of high interest: safety belt use and impaired driving. For each of these programs, the agency will issue final IPT reports and provide the public with the same opportunity to comment on the planned agency activities. Similar to the reports on vehicle compatibility and rollover mitigation, the documents will be final and comments received will be evaluated and incorporated, as appropriate into future agency efforts. Each of these documents can be found at future dates on NHTSA's Web site at http://www.nhtsa.dot.gov/people/iptreports.html and also on DOT's docket management system (DMS) at http://dms.dot.gov/. The docket numbers for each of the respective reports will be as follows:

❏ Safety Belt Use NHTSA-2003-14620; and

❏ Impaired Driving NHTSA-2003-14621.

Each document will describe the safety problem and provide strategies the agency plans to pursue in increasing safety belt use and reducing impaired driving.

How Do I Prepare and Submit Comments?

Your comments must be written and in English. To ensure that your comments are correctly filed in the Docket, please include the Docket number of this document (Vehicle Compatibility, NHTSA-2003-14623; Rollover Mitigation, NHTSA-2003-14622) in your comments.

Please send two paper copies of your comments to Docket Management or submit them electronically. The mailing address is U.S. Department of Transportation Docket Management, Room PL-401, 400 Seventh Street, SW., Washington, DC 20590. If you submit your comments electronically, log onto the Docket Management System Web site at http://dms.dot.gov and click on “Help & Information” or “Help/Info” to obtain instructions.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR part 512).

In addition, send two copies from which you have deleted the claimed confidential business information to Docket Management, Room PL-401, 400 Seventh Street, SW., Washington, DC 20590.

Will the Agency Consider Late Comments?

In our response, NHTSA will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted By Other People?

You may read the comments by visiting Docket Management in person at Room PL-401, 400 Seventh Street, SW., Washington, DC from 10 a.m. to 5 p.m., Monday through Friday.

You may also see the comments on the Internet by taking the following steps:

• Go to the Docket Management System (DMS) Web page of the Department of Transportation (http://dms.dot.gov).

• On that page, click on “search.”

• On the next page ((http://dms.dot.gov/search/) type in the five-digit Docket number shown at the beginning of this document (Vehicle Compatibility -14623; Rollover Mitigation—14622). Click on “search.”

• On the next page, which contains Docket summary information for the Docket you selected, click on the desired comments. You may also download the comments.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 U.S.C. 30111, 30117, 30168; delegation of authority at 49 CFR 1.50 and 501.8.

Issued on: June 12, 2003.
Rose A. McMurray,
Associate Administrator for Planning, Evaluation & Budget.

[FR Doc. 03-15239 Filed 6-17-03; 8:45 am]

BILLING CODE 4910-59-P